SECURITIES AND EXCHANGE COMMISSION

[Release No. 34-45433; File No. SR-NYSE-2001-55]

Self-Regulatory Organizations; the New York Stock Exchange, Inc.; Order Granting Approval To Proposed Rule Change To Amend NYSE Rule 51 Relating to Suspension of Trading

February 12, 2002.

On December 31, 2001, the New York Stock Exchange, Inc. (“NYSE” or “Exchange”) filed with the Securities and Exchange Commission (“Commission”), pursuant to Section 19(b)(1) of the Securities Exchange Act of 1934 (“Act”) ¹ and Rule 19b-4 thereunder,² a proposed rule change to amend NYSE Rule 51, Hours for Business, to make emergency procedures to halt or suspend trading or to close Exchange facilities more flexible and more responsive to the NYSE's current organizational structure and to the kinds of challenges that the Exchange may face. The proposal was published for comment in the Federal Register on January 11, 2002.³ The Commission received no comments on the proposal.

¹ 15 U.S.C. 78s(b)(1).

² 17 CFR 240.19b-4.

³ See Securities Exchange Act Release No. 45249 (January 7, 2002), 67 FR 1529.

The Commission finds that the proposed rule change is consistent with the requirements of the Act and the rules and regulations thereunder applicable to a national securities exchange ⁴ and, in particular, the requirements of Section 6 of the Act ⁵ and the rules and regulations thereunder. The Commission finds specifically that the proposed rule change is consistent with Section 6(b)(5) of the Act ⁶ in that the Rule is designed to remove impediments to and perfect the mechanism of a free and open market and, in general, to protect investors and the public interest, by providing the Exchange with more flexibility to respond appropriately and in a timely fashion to extraordinary circumstances that may require the suspension of trading at the NYSE, or the closing of some or all Exchange facilities.

⁴ In approving this proposed rule change, the Commission has considered the proposed rule's impact on efficiency, competition, and capital formation. 15 U.S.C. 78c(f).

⁵ 15 U.S.C. 78f.

⁶ 15 U.S.C. 78f(b)(5).

It Is Therefore Ordered, pursuant to Section 19(b)(2) of the Act,⁷ that the proposed rule change (SR-NYSE-2001-55) be, and it hereby is, approved.

⁷ 15 U.S.C. 78s(b)(2).

For the Commission, by the Division of Market Regulation, pursuant to delegated authority.⁸
⁸ 17 CFR 200.30-3(a)(12).
Margaret H. McFarland,
Deputy Secretary.

[FR Doc. 02-3867 Filed 2-15-02; 8:45 am]

BILLING CODE 8010-01-P